INTERNATIONAL TRADE COMMISSION

[Investigation Nos. 701-TA-453 and 731-TA-1136-1137 (Review)]

Sodium Nitrite From China and Germany

On the basis of the record ¹ developed in the subject five-year reviews, the United States International Trade Commission (Commission) determines, pursuant to section 751(c) of the Tariff Act of 1930 (19 U.S.C. 1675(c)), that revocation of the countervailing duty order on sodium nitrite from China and the antidumping duty orders on sodium nitrite from China and Germany would likely lead to continuation or recurrence of material injury to an industry in the United States within a reasonably foreseeable time.

¹ The record is defined in sec. 207.2(f) of the Commission's Rules of Practice and Procedure (19 CFR 207.2(f)).

Background

The Commission instituted these reviews on July 1, 2013 (78 FR 39316) and determined on October 21, 2013, that it would conduct expedited reviews (78 FR 68474, November 14, 2013).

The Commission completed and filed its determination in these reviews on January 29, 2014. The views of the Commission are contained in Sodium Nitrite from China and Germany (Inv. Nos. 701-TA-453 and 731-TA-1136-1137 (Review)), USITC Publication 4451, January 2014.

By order of the Commission.
Issued: January 30, 2014.
Lisa R. Barton,
Acting Secretary to the Commission.

[FR Doc. 2014-02277 Filed 2-3-14; 8:45 am]

BILLING CODE 7020-02-P